ENVIRONMENTAL PROTECTION AGENCY

[FRL-8721-9]

Proposed Administrative Cost Settlement Under Section 122(h)(1) of the Comprehensive Environmental Response, Compensation and Liability Act; In the Matter of the Illinois Power Subarea of the Ottawa Radiation Site, Ottawa, IL

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of response costs concerning the Illinois Power subarea of the Ottawa Radiation Superfund Site in Ottawa, Illinois with Illinois Power Company d/b/a Ameren IP. The settlement requires the settling parties to: operate and maintain a radon reduction system at the property; record a restrictive covenant that prohibits interference with the building foundations and system; agree to use a covenant deed that reserves the right for Illinois Power, U.S. EPA and the State to enforce the restrictive covenant if Illinois Power conveys the property; and reimburse $35,000 of U.S. EPA's response costs incurred at the Illinois Power subarea. In exchange for the payment and work performed, the United States covenants not to sue or take administrative action pursuant to Sections 106, 107 and 122 of CERCLA, 42 U.S.C. 9606, 9607 and 9622 for the work and past response costs at the Illinois Power subarea of the Ottawa Radiation Site. In addition, Illinois Power is entitled to protection from contribution actions or claims as provided by Sections 113(f) and 122(h)(4) of CERCLA, 42 U.S.C. 9613(f) and 9622(h)(4), for the work performed and past costs incurred at the Site.

For thirty (30) days after the date of publication of this notice, the Agency will receive written comments relating to the cost recovery provisions of the settlement. The Agency will consider all comments received and may modify or withdraw its consent to the settlement if comments received disclose facts or considerations which indicate that the settlement is inappropriate, improper, or inadequate. The Agency's response to any comments received will be available for public inspection at U.S. EPA's Region 5 Office at 77 West Jackson Boulevard, Chicago, Illinois 60604.

DATES: Comments must be submitted on or before November 6, 2008.

ADDRESSES: The proposed settlement is available for public inspection at EPA's Record Center, 7th floor, 77 W. Jackson Blvd., Chicago, Illinois 60604. A copy of the proposed settlement may be obtained from Janet Carlson, Associate Regional Counsel, U.S. EPA, Mail Code C-14J, 77 W. Jackson Blvd., Chicago, Illinois 60604, telephone (312) 886-6059. Comments should reference the Illinois Power subarea of the Ottawa Radiation Site, Ottawa, Illinois and EPA Docket No. VW08C914, and should be addressed to Janet Carlson, Associate Regional Counsel, U.S. EPA, Mail Code C-14J, 77 W. Jackson Blvd., Chicago, Illinois 60604.

FOR FURTHER INFORMATION CONTACT: Janet Carlson, Associate Regional Counsel, U.S. EPA, Mail Code C-14J, 77 W. Jackson Blvd., Chicago, Illinois 60604, telephone (312) 886-6059.

AUTHORITY: The Comprehensive Environmental Response, Compensation, and Liability Act of 1980, as amended, 42 U.S.C. 9601, et seq.

Dated: September 19, 2008.
Douglas Balloti,
Acting Director, Superfund Division.

[FR Doc. E8-23746 Filed 10-6-08; 8:45 am]

BILLING CODE 6560-50-P